DEPARTMENT OF ENERGY

Federal Energy Regulatory Commission

[Docket Nos. ER06-615-011; ER06-615-012; ER07-1257-000]

California Independent System Operator Corporation; Notice Deferring Technical Conference

October 19, 2009.

On September 15, 2009, the Commission issued a notice in the above-captioned proceeding,¹ seeking comments from parties on the need for Commission staff to convene a technical conference as directed in Cal Indep. Sys. Operator Corp., 122 FERC ¶ 61,271 (2008). Comments were submitted by the Indicated Parties,² Western Power Trading Forum, Pacific Gas and Electric Company, the California Independent System Operator Corporation, and Southern California Edison Company. Upon consideration, the Commission will defer holding a technical conference pending further notice.

¹ Notice Seeking Comment on Need for Technical Conference, Docket Nos. ER06-615-011, et al. (Sept. 15, 2009).

² Indicated Parties include the California Municipal Utilities Association, Silicon Valley Power, M-S-R Public Power Agency, Transmission Agency of Northern California, Modesto Irrigation District, Bay Area Municipal Transmission Group, Northern California Power Agency, Sacramento Municipal Utility District, Metropolitan Water District of Southern California, the Cities of Anaheim, Azusa, Banning, Colton, Pasadena, and Riverside, California, and the City and County of San Francisco, California.

Kimberly D. Bose,
Secretary.

[FR Doc. E9-25618 Filed 10-23-09; 8:45 am]

BILLING CODE 6717-01-P